SMALL BUSINESS ADMINISTRATION

[License No. 03/03-0278]

Notice Seeking Exemption Under Section 312 of the Small Business Investment Act, Conflicts of Interest; Canapi Ventures SBIC Fund, L.P.

Notice is hereby given that Canapi Ventures SBIC Fund, L.P., 801 17th Street NW, Suite 1050, Washington, DC 20006, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Associates of Canapi Ventures SBIC Fund, L.P. own more than 10% of the equity interests in Finxact, Inc. 1301 Riverplace Drive, Suite 2501, Jacksonville, FL 32207, thereby making Finxact, Inc. an Associate.

The financing is brought within the purview of § 107.730(a)(4) of the Regulations because Canapi Ventures SBIC Fund, L.P. and Finxact, Inc. are Associates and Canapi Ventures SBIC Fund, L.P. is seeking to invest equity in Finxact, Inc. Therefore, this transaction is considered financing an Associate, requiring a prior SBA exemption.

Notice is hereby given that any interested person may submit written comments on the transaction, within fifteen days of the date of this publication, to the Associate Administrator for Investment, U.S. Small Business Administration, 409 Third Street SW, Washington, DC 20416.

Small Business Administration.
Thomas G. Morris,
Acting Associate Administrator, Director, Office of Liquidation, Office of Investment and Innovation.

[FR Doc. 2021-05899 Filed 3-22-21; 8:45 am]

BILLING CODE 8026-03-P